DEPARTMENT OF ENERGY

Federal Energy Regulatory Commission

[Docket No. RP01-208-000]

Amoco Production Company BP Exploration & Oil, Inc., Chevron USA Inc., ExxonMobil Gas Marketing Company, a Division of ExxonMobil Corporation, and Shell Offshore Inc.; Notice of Convening Conference

August 23, 2002.

Pursuant to Rule 601 of the Commission's Rules of Practice and Procedure, 18 CFR 385.601, the Dispute Resolution Service will convene a Conference on Wednesday and Thursday, August 28th and 29th, 2002, to discuss how Alternative Dispute Resolution processes and procedures may assist the participants in resolving disputes arising in the above-docketed proceeding. The conference will be held at the Southern Natural Gas Company, 1900 Fifth Avenue., North, Birmingham, AL. (205)325-3854, beginning at 9 a.m. on August 28 and ending at approximately 5 p.m. on August 29.

Steven A. Shapiro and Deborah Osborne, acting for the Dispute Resolution Service, will convene the conference. They will be available to communicate in private with any participant prior to the conference. If a participant has any questions regarding the conference, please call Mr. Shapiro at 202/502-8894 or Ms. Osborne at 202/502-8831 or an e-mail to Steven.Shapiro@ferc.gov or Deborah.Osborne@ferc.gov. Parties may also communicate with Richard Miles, the Director of the Commission's Dispute Resolution Service at 1 877 FERC ADR (337-2237) or 202/502-8702 and his e-mail address isRichard.Miles@ferc.gov.

Linwood A. Watson, Jr.,
Deputy Secretary.

[FR Doc. 02-22038 Filed 8-28-02; 8:45 am]

BILLING CODE 6717-01-P